DEPARTMENT OF COMMERCE

International Trade Administration

A-570-933

Postponement of Preliminary Determination of Antidumping Duty Investigation: Frontseating Service Valves from the People's Republic of China

AGENCY: Import Administration, International Trade Administration, Department of Commerce.

EFFECTIVE DATE: August 11, 2008.

FOR FURTHER INFORMATION CONTACT: Eugene Degnan or Robert Bolling, AD/CVD Operations, Office 8, Import Administration, International Trade Administration, U.S. Department of Commerce, 14th Street and Constitution Avenue, NW, Washington, DC 20230; telephone: (202) 482-0414 or (202) 482-3434, respectively.

SUPPLEMENTARY INFORMATION:

Postponement of Preliminary Determination

On April 8, 2008, the Department of Commerce (“the Department”) initiated an antidumping duty investigation on frontseating service valves from the People's Republic of China. See Notice of Initiation of Antidumping Duty Investigation: Frontseating Service Valves from the People's Republic of China, 73 FR 20250 (April 15, 2008).¹ The notice of initiation stated that the Department would issue its preliminary determination no later than 140 days after the date of issuance of the initiation, in accordance with section 733(b)(1)(A) of the Tariff Act of 1930, as amended (“the Act”). The preliminary determination is currently due no later than August 26, 2008.

¹ The Department issued the initiation notice on April 8, 2008, and the initiation was published in the Federal Register on April 15, 2008.

On July 30, 2008, the petitioner, Parker-Hannifin Corporation, made a timely request, pursuant to 19 CFR 351.205(b)(2) and (e), for a 50-day postponement of the preliminary determination. Because there are no compelling reasons to deny the request, in accordance with section 733(c)(1)(A) of the Act, the Department is postponing the deadline for the preliminary determination under by 50 days to no later than October 15, 2008. The deadline for the final determination will continue to be 75 days after the date of the preliminary determination, unless extended.

This notice is issued and published pursuant to section 733(c)(2) of the Act and 19 CFR 351.205(f)(1).

Dated: August 5, 2008.
David M. Spooner,
Assistant Secretary for Import Administration.

[FR Doc. E8-18478 Filed 8-8-08; 8:45 am]

BILLING CODE 3510-DS-S